DEPARTMENT OF AGRICULTURE

Office of the Under Secretary, Research, Education, and Economics; Notice of the Advisory Committee on Biotechnology and 21st Century Agriculture Meeting

AGENCY: Agricultural Research Service, USDA.

ACTION: Notice of meetings.

SUMMARY: In accordance with the Federal Advisory Committee Act, 5 U.S.C. App. 2, the United States Department of Agriculture announces two meetings of the Advisory Committee on Biotechnology and 21st Century Agriculture (AC21).

DATES: The meeting dates are November 14, 2011, from 11 a.m. until 12:30 p.m. and November 15, 2011, from 10:30 a.m. until 12 noon.

ADDRESSES: The meetings will be conducted in Webinar format entirely by telephone and Internet.

FOR FURTHER INFORMATION CONTACT: Michael Schechtman, Designated Federal Official, Office of the Deputy Secretary, USDA, 202B Jamie L. Whitten Federal Building, 12th and Independence Avenue SW., Washington, DC 20250; Telephone (202) 720-3817; Fax (202) 690-4265; Email AC21@ars.usda.gov.

SUPPLEMENTARY INFORMATION: The AC21 provides information and advice to the Secretary of Agriculture on topics related to the use of biotechnology in agriculture. Background information regarding the work and membership of the AC21 is available on the USDA Web site at http://www.usda.gov/wps/portal/usda/usdahome?contentid=AC21Main.xml&contentidonly=true.

The immediate work of the AC21 is to address the following two questions: (1) What types of compensation mechanisms, if any, would be appropriate to address economic losses by farmers in which the value of their crops is reduced by the unintended presence of GE material(s)? and (2) What would be necessary to implement such mechanisms? That is, what would be the eligibility standard for a loss and what tools and triggers (e.g., tolerances, testing protocols, etc.) would be needed to verify and measure such losses and determine if claims are compensable?

The purpose of the two meetings is to provide background information in a Webinar format to AC21 members on existing USDA programs that may serve as examples to help in the development of potential compensation mechanisms for the committee to consider, should it deem compensation mechanisms appropriate to recommend. During the November 14, 2011, conference call, AC21 members will be briefed on, and have the opportunity to discuss, background information on USDA's crop insurance programs under the Risk Management Agency. During the November 15, 2011, conference call members will be briefed on, and have the opportunity to discuss, background information on the indemnification programs for perishable agricultural commodities under the Agricultural Marketing Service and for diseased livestock under the Animal and Plant Health Inspection Service.

Members of the public who wish to listen in to the November 14, 2011, meeting may view the presentations and listen to audio at https://cc.readytalk.com/r/2bcp67fidhgq or to dial in at Area Code (800) 705-8289. Members of the public who wish to listen in to the November 15, 2011, meeting may view the presentations and listen to audio at https://cc.readytalk.com/r/jq96hzop0sp4 or dial in at Area Code (800) 698-5986. There will be an opportunity for the public to comment on this background material at the next in-person meeting of the AC21, which will be scheduled later. This notice of meeting agendas is given pursuant to section 10 of the Federal Advisory Committee Act (5 U.S.C. App. 2 10).

Dated: October 26, 2011.
Yeshimebet Abebe,
Chief of Staff.

[FR Doc. 2011-28469 Filed 11-2-11; 8:45 am]

BILLING CODE 3410-03-P